DEPARTMENT OF COMMERCE

International Trade Administration

[C-570-913]

Certain New Pneumatic Off-the-Road Tires from the People's Republic of China: Postponement of Preliminary Determination in the Countervailing Duty Investigation

AGENCY: Import Administration, International Trade Administration, Department of Commerce.

EFFECTIVE DATE: September 17, 2007.

FOR FURTHER INFORMATION CONTACT: Mark Hoadley, Toni Page, or Jack Zhao, AD/CVD Operations, Office 6, Import Administration, International Trade Administration, U.S. Department of Commerce, 14th Street and Constitution Avenue, NW, Washington, DC 20230; telephone: (202) 482-3148, (202) 482-1398 and (202) 482-1396, respectively.

SUPPLEMENTARY INFORMATION:

Background

On July 30, 2007, the Department of Commerce (Department) initiated the countervailing duty investigation of certain new pneumatic off-the-road tires (OTR tires) from the People's Republic of China. See Certain New Pneumatic Off-the-Road Tires From the People's Republic of China: Initiation of Countervailing Duty Investigation, 72 FR 44122 (August 7, 2007). Currently, the preliminary determination is due no later than October 3, 2007.

Postponement of Due Date for Preliminary Determination

On August 23, 2007, Titan Tire Corporation and United Steel, Paper and Forestry, Rubber, Manufacturing, Energy Allied Industrial and Service Workers International Union, AFL-CIO-CLC (collectively, petitioners), submitted a letter requesting that the Department postpone the preliminary determination of the countervailing duty investigation of OTR tires from the People's Republic of China by 65 days. Under section 703(c)(1)(A) of the Tariff Act of 1930, as amended (the Act), the Department may extend the period for reaching a preliminary determination in a countervailing duty investigation until not later than the 130th day after the date on which the administering authority initiates an investigation if the petitioner makes a timely request for an extension of the period within which the determination must be made under section 703(b) of the Act. Pursuant to section 351.205(e) of the Department's regulations, the petitioners' request for postponement of the preliminary determination was made 25 days or more before the scheduled date of the preliminary determination. Accordingly, we are extending the due date for the preliminary determination by 65 days to December 7, 2007.

This notice is issued and published pursuant to section 703(c)(2) of the Act.

Dated: September 11, 2007.
Joseph A. Spetrini,
Deputy Assistant Secretary for Import Administration.

[FR Doc. E7-18256 Filed 9-14-07; 8:45 am]

BILLING CODE 3510-DS-S